DEPARTMENT OF DEFENSE

Office of the Secretary

[Transmittal No. 25-95]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-95, Policy Justification, and Sensitivity of Technology.

Dated: February 4, 2026.
Stephanie J. Bost,
Alternate OSD Federal Register Liaison Officer, Department of Defense.

BILLING CODE 6001-FR-P

BILLING CODE 6001-FR-C

Transmittal No. 25-95

Notice of Proposed Issuance of Letter of Offer Pursuant to Section 36(b)(1) of the Arms Export Control Act, as amended

(i) Prospective Purchaser: Government of the United Kingdom

(ii) Total Estimated Value:

Major Defense Equipment * | $ 75 million
Other | $125 million
TOTAL | $200 million

(iii) Description and Quantities of Articles or Services under Consideration for Purchase: Foreign Military Sales (FMS) case UK-P-LYN was below the congressional notification threshold at $41.02 million ($14.63 million in MDE) and included two (2) Advanced Extremely High Frequency (AEHF) Navy Multiband Terminals (NMT), as well as non-MDE KGV-136R COMSEC devices and other communications equipment. The Government of the United Kingdom has requested that the case be amended to include an additional six (6) AEHF NMTs. This amendment will cause the case to exceed the notification threshold, and thus notification of the entire program is required. The above notification requirements are combined as follows:

Major Defense Equipment (MDE):

Eight (8) Advanced Extremely High Frequency Navy Multiband Terminals

Non-Major Defense Equipment:

The following non-MDE items will also be included: KGV-136R communications security devices; communications equipment; submarine high data rate masts; ancillary equipment; containers; integration and test support; spare and repair parts; publications and technical documentation; personnel training and training equipment; United States (U.S.) Government and contractor engineering, technical, and logistics support services; and other related elements of logistics and program support.

(iv) Military Department: Navy (UK-P-LYN)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 24, 2025

* as defined in Section 47(6) of the Arms Export Control Act.

POLICY JUSTIFICATION

United Kingdom—Navy Multiband Terminals

The Government of the United Kingdom has requested to buy an additional six (6) Advanced Extremely High Frequency (AEHF) Navy Multiband Terminals (NMT) that will be added to a previously implemented case whose value was under the congressional notification threshold. The original Foreign Military Sales (FMS) case, valued at $41.02 million ($14.63 million in MDE), included two (2) AEHF NMTs. This notification is for a combined total of eight (8) AEHF NMTs. The following non-MDE items will also be included: KGV-136R communications security devices; communications equipment; submarine high data rate masts; ancillary equipment; containers; integration and test support; spare and repair parts; publications and technical documentation; personnel training and training equipment; U.S. Government and contractor engineering, technical, and logistics support services; and other related elements of logistics and program support. The estimated total cost is $200 million.

This proposed sale will support the foreign policy and national security objectives of the U.S. by improving the security of a key NATO Ally that is an important force for political stability and economic progress in Europe.

The proposed sale will improve the United Kingdom's capability to meet current and future threats by ensuring communications interoperability. The United Kingdom will have no difficulty absorbing these articles and services into its armed forces. The UK Royal Navy will install the NMT system aboard Dreadnought submarines to enable AEHF satellite communications to Royal Navy and Minister of Defence shore sites, ships, and submarines in a non-contested threat environment.

The proposed sale of this equipment and support will not alter the basic military balance in the region.

The principal contractor will be RTX Corporation, located in Arlington, VA. At this time, the U.S. Government is not aware of any offset agreement proposed in connection with this potential sale. Any offset agreement will be defined in negotiations between the purchaser and the contractor.

Implementation of this proposed sale will not require the assignment of any additional U.S. Government or contractor representatives to the United Kingdom.

There will be no adverse impact on U.S. defense readiness as a result of this proposed sale.

Transmittal No 25-95

Notice of Proposed Issuance of Letter of Offer Pursuant to Section 36(b)(1) of the Arms Export Control Act

Annex

Item No. vii

(vii) Sensitivity of Technology:

1. The Advanced Extremely High Frequency Navy Multiband Terminal (AEHF NMT) is the next generation of maritime military satellite communications (SATCOM) terminal for the Navy and its coalition partners. The Navy uses it for accessing protected and survivable SATCOM over the AEHF SATCOM constellation. In addition, NMT provides access to wideband communications through the Defense Satellite Communications System (DSCS) and Wideband Global SATCOM (WGS) constellations. The NMT is interoperable with the current and legacy service SATCOM terminals, including the family of advanced beyond-line-of-sight terminals, secure mobile anti-jam reliable tactical terminals, and follow-on terminals. The NMT provides communications interoperability for at-sea assets in non-contested threat environments. The system includes AEHF communications security KGV-136R National Security Agency Type 1 releasable controlled cryptographic items, enabling secure anti-jam communications.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the United Kingdom can provide substantially the same degree of protection for the sensitive technology being released as the U.S. Government. This sale is necessary in furtherance of the U.S. foreign policy and national security objectives outlined in the Policy Justification.

5. All defense articles and services listed in this transmittal have been authorized for release and export to the Government of the United Kingdom.

[FR Doc. 2026-02398 Filed 2-5-26; 8:45 am]

BILLING CODE 6001-FR-P